DEPARTMENT OF ENERGY

Federal Energy Regulatory Commission

[Docket No. ER13-1333-000]

Meridian Energy USA, Inc. v. California Independent System Operator Corporation; Notice of Filing

Take notice that on April 24, 2013, Meridian Energy USA, Inc. (Meridian) submitted a request for a limited waiver of Appendix Y of the California Independent System Operator Corp. (CAISO) tariff to defer the second posting of Interconnection Financial Security for the Jacobs Canal Solar Farm, Laurel West Solar Farm, and Laurel East Solar Farm (Waiver Request). Meridian also submitted a motion for stay of Meridian's obligation to make the second posting of Interconnection Financial Security on May 4, 2013 (Motion for Stay). Meridian requests a shortened comment period of five days for the Motion for Stay and a shortened comment period of ten days for the Waiver Request.

Any person desiring to intervene or protest in this proceeding must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Comment Date for Motion for Stay: 5:00 p.m. Eastern Time on April 29, 2013.

Comment Date for Waiver Request: 5:00 p.m. Eastern Time on May 6, 2013.

Dated: April 25, 2013.
Nathaniel J. Davis, Sr.,
Deputy Secretary.

[FR Doc. 2013-10368 Filed 5-1-13; 8:45 am]

BILLING CODE 6717-01-P